DEPARTMENT OF ENERGY

Federal Energy Regulatory Commission

[Project No. 2299-057]

Turlock and Modesto Irrigation Districts; Notice of Additional Time for Comment and Response Periods

September 20, 2005.

This notice applies to the Don Pedro Project, FERC No. 2299. The project is licensed to the Turlock and Modesto Irrigation Districts, and is located on the Tuolumne River in Stanislaus and Tuolumne Counties, California.

A Notice of Filing of Fisheries Studies Report and Study Proposals, and Soliciting Comments, Motions to Intervene, and Protests was issued on June 24, 2005, for the Ten-Year Summary Report on Fisheries Studies in the Tuolumne River. The report was filed with the Commission on March 25, 2005. The period for filing comments and/or motions ended July 25, 2005; the period for filing responses to comments and/or motions ended August 24, 2005.

Several parties requested on July 25, 2005, an additional 120 days to provide comments. This notice provides additional time for filing comments until November 22, 2005; and additional time for filing responses to comments until December 22, 2005.

For additional information contact Philip Scordelis at (415) 369-3335.

Magalie R. Salas,
Secretary.

[FR Doc. E5-5266 Filed 9-27-05; 8:45 am]

BILLING CODE 6717-01-P